DEPARTMENT OF COMMERCE

International Trade Administration

[A-570-154]

Certain Pea Protein From the People's Republic of China: Postponement of Preliminary Determination in the Less-Than-Fair-Value Investigation

AGENCY: Enforcement and Compliance, International Trade Administration, Department of Commerce.

DATES: Applicable November 27, 2023.

FOR FURTHER INFORMATION CONTACT: Katherine Smith at (202) 482-0557, AD/CVD Operations, Office II, Enforcement and Compliance, International Trade Administration, U.S. Department of Commerce, 1401 Constitution Avenue NW, Washington, DC 20230.

SUPPLEMENTARY INFORMATION:

Background

On August 1, 2023, the U.S. Department of Commerce (Commerce) initiated a less-than-fair-value (LTFV) investigation of imports of certain pea protein (pea protein) from the People's Republic of China (China).¹ Currently, the preliminary determination is due no later than December 19, 2023.

¹ See Certain Pea Protein from the People's Republic of China: Initiation of Less-Than-Fair Value Investigation, 88 FR 52124 (August 1, 2023).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 14, 2023, PURIS Proteins, LLC (the petitioner) submitted a timely request that Commerce postpone the preliminary determination in the LTFV investigation.² The petitioner states that it requests postponement due to concerns that Commerce will need more time to evaluate questionnaire responses submitted by the mandatory respondents and issue supplemental questionnaires.³

² See Petitioner's Letter, “Petitioner's Request for Postponement of the Preliminary Determination,” dated November 14, 2023.

³ Id. at 1.

For the reasons stated above and because there are no compelling reasons to deny the request, Commerce, in accordance with section 733(c)(1)(A) of the Act, is postponing the deadline for the preliminary determination by 50 days (i.e., 190 days after the date on which this investigation was initiated). As a result, Commerce will issue its preliminary determination no later than February 7, 2023. In accordance with section 735(a)(1) of the Act and 19 CFR 351.210(b)(1), the deadline for the final determination of this investigation will continue to be 75 days after the date of the preliminary determination, unless postponed.

Commerce is issuing and publishing this notice pursuant to section 733(c)(2) of the Act and 19 CFR 351.205(f)(1).

Dated: November 17, 2023.
Abdelali Elouaradia,
Deputy Assistant Secretary for Enforcement and Compliance.

[FR Doc. 2023-26031 Filed 11-24-23; 8:45 am]

BILLING CODE 3510-DS-P